OFFICE OF PERSONNEL MANAGEMENT

Submission for Review: Declaration for Federal Employment, OF 306, 3206-0182

AGENCY: U.S. Office of Personnel Management.

ACTION: 60-Day Notice and request for comments.

SUMMARY: Federal Investigative Services (FIS), U.S. Office of Personnel Management (OPM) offers the general public and other Federal agencies the opportunity to comment on an expiring information collection request (ICR), Office of Management and Budget (OMB) Control No. 3206-0182, for the Declaration for Federal Employment, Optional Form (OF) 306. As required by the Paperwork Reduction Act of 1995, (Pub. L. 104-13, 44 U.S.C. chapter 35) as amended by the Clinger-Cohen Act (Pub. L. 104-106), OPM is soliciting comments for this collection. The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until June 18, 2010. This process is conducted in accordance with 5 CFR 1320.1.

ADDRESSES: Interested persons are invited to submit written comments on the proposed information collection to FIS, OPM, 1900 E Street, NW., Washington, DC 20415, Attention: Lisa Loss or sent via electronic mail to FISDFormsComments@opm.gov.

FOR FURTHER INFORMATION CONTACT: A copy of this ICR, with applicable supporting documentation, may be obtained by contacting FIS, OPM, 1900 E Street, NW., Washington, DC 20503, Attention: Lisa Loss or sent via electronic mail to FISDFormsComments@opm.gov.

SUPPLEMENTARY INFORMATION: The Declaration for Federal Employment Optional Form (OF) 306, is completed by applicants who are under consideration for Federal or Federal contract employment. The OF 306 requests that the applicant provide personal identifying data, including convictions, imprisonments, probations, paroles or military court martial in the past 10 years, delinquency on a Federal debt, Selective Service Registration, United States military service and Federal civilian or military retirement pay or pension received or applied for. It is estimated that 178,114 individuals will respond annually. Each form takes approximately 15 minutes to complete. The annual estimated burden is 44,529 hours.

U.S. Office of Personnel Management.
John Berry,
Director.

[FR Doc. 2010-8955 Filed 4-16-10; 8:45 am]

BILLING CODE 6325-53-P